FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Board Public Website Usability Surveys (FR 3076; OMB No. 7100-0366).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Board Public Website Usability Surveys.

Collection identifier: FR 3076.

OMB control number: 7100-0366.

General description of collection: The Board uses the ad hoc FR 3076 to seek input (1) from users or potential users of the Board's public website and social media tools, (2) about the Board's outreach, and (3) about other communication tools used by Board. The FR 3076 is offered to a diverse audience of individuals including consumers, bankers, media, government employees, educators, and others. Responses to the FR 3076 are used to help improve the usability and offerings on the Board's public website and other online public communications. The FR 3076 comprises two parts: surveys and focus groups. The frequency of the surveys and content of the questions varies as needs arise for feedback on different Board resources and from different audiences. The FR 3076 surveys may be conducted up to 12 times per year. In addition, the Board may conduct up to four focus group sessions per year.

Frequency: As needed.

Respondents: Individual users and potential users of the Board's public website.

Total estimated number of respondents: 120.

Total estimated annual burden hours: 420.¹

¹ More detailed information regarding this collection, including more detailed burden estimates, can be found in the OMB Supporting Statement posted at https://www.federalreserve.gov/apps/reportingforms/home/review. On the page displayed at the link, you can find the OMB Supporting Statement by referencing the collection identifier, FR 3076.

Current actions: On November 14, 2023, the Board published a notice in the Federal Register (88 FR 78021) requesting public comment for 60 days on the extension, without revision, of the FR 3076. The comment period for this notice expired on January 16, 2024. The Board did not receive any comments.

Board of Governors of the Federal Reserve System.
Ann Misback,
Secretary of the Board.

[FR Doc. 2024-07093 Filed 4-2-24; 8:45 am]

BILLING CODE 6210-01-P